DEPARTMENT OF COMMERCE

International Trade Administration

[A-533-887]

Carbon and Alloy Steel Threaded Rod From India: Preliminary Results of Antidumping Duty Administrative Review, 2019-2021

AGENCY: Enforcement and Compliance, International Trade Administration, Department of Commerce.

SUMMARY: The Department of Commerce (Commerce) preliminarily determines that carbon and alloy steel threaded rod (steel threaded rod) from India is not being sold in the United States at below normal value. The period of review (POR) is September 25, 2019, through March 31, 2021. Interested parties are invited to comment on these preliminary results.

DATES: Applicable May 6, 2022.

FOR FURTHER INFORMATION CONTACT: Nicolas Mayora, AD/CVD Operations, Office V, Enforcement and Compliance, International Trade Administration, U.S. Department of Commerce, 1401 Constitution Avenue NW, Washington, DC 20230; telephone: (202) 482-3053.

SUPPLEMENTARY INFORMATION:

Background

On April 9, 2020, Commerce published in the Federal Register an antidumping duty order on steel threaded rod from India.¹ On April 1, 2021, we published in the Federal Register a notice of opportunity to request an administrative review of the Order.² On June 11, 2021, based on timely requests for an administrative review, Commerce initiated the administrative review of 328 companies.³ Commerce selected Maharaja International (Maharaja) and Mangal Steel Enterprises Limited (Mangal) as the two mandatory respondents for individual examination.⁴

¹ See Carbon and Alloy Steel Threaded Rod from India: Amended Final Determination of Sales at Less Than Fair Value and Antidumping Duty Order, 85 FR 19925 (April 9, 2020) (Order).

² See Antidumping and Countervailing Duty Order, Finding, or Suspended Investigation; Opportunity to Request Administrative Review, 86 FR 17137 (April 1, 2021).

³ See Initiation of Antidumping and Countervailing Duty Administrative Reviews, 86 FR 31282 (June 11, 2021) (Initiation Notice); see also Initiation of Antidumping and Countervailing Duty Administrative Reviews, 87 FR 21619 (April 12, 2022) that includes Kova Fasteners Pvt., Ltd. Commerce inadvertently omitted this company from the initial Initiation Notice.

⁴ See Memorandum, “Respondent Selection,” dated July 16, 2021.

On December 9, 2021, Commerce extended the time limit for completing the preliminary results of this review until April 29, 2022.⁵ For a complete description of the events between the initiation of this review and these preliminary results, see the Preliminary Decision Memorandum.⁶

⁵ See Memorandum, “Extension of Deadline for Preliminary Results of Antidumping Duty Administrative Review; 2019-2021,” dated December 9, 2021.

⁶ See Memorandum, “Decision Memorandum for the Preliminary Results of the Antidumping Duty Administrative Review of Carbon and Alloy Steel Threaded Rod from India; 2019-2021,” dated concurrently with, and hereby adopted by, this notice (Preliminary Decision Memorandum).

Scope of the Order

The merchandise covered by the scope of this Order is carbon and alloy steel threaded rod. A complete description of the scope of the Order is contained in the Preliminary Decision Memorandum.⁷

⁷ See Preliminary Decision Memorandum at “Scope of the Order.”

Methodology

Commerce is conducting this review in accordance with section 751(a)(2) of the Tariff Act of 1930, as amended (the Act). Commerce has calculated export prices and constructed export prices in accordance with sections 772(a) and 772(b) of the Act, respectively. Normal Value (NV) is calculated in accordance with section 773(e) of the Act. For a full description of the methodology underlying these preliminary results, see the Preliminary Decision Memorandum. See Appendix I for a complete list of topics discussed in the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, Commerce preliminarily determines that the estimated weighted-average dumping margins for both Maharaja and Mangal are zero percent. Therefore, in accordance with section 735(c)(5)(B) of the Act, we are preliminarily applying to the 326 companies not selected for individual examination a rate of zero percent, because we calculated rates of zero percent for both mandatory respondents (see Appendix II for a full list of these companies).

Preliminary Results of the Review

Commerce preliminarily determines that the following estimated weighted-average dumping margins exist during the period September 25, 2019, through March 31, 2021:

Exporter/producer | Estimated weighted- average dumping margin (percent)
Maharaja International | 0.00
Mangal Steel Enterprises Limited | 0.00
Non-Examined Companies ⁸ | 0.00

Disclosure and Public Comment

⁸ See Appendix II for a list of these companies.

Commerce intends to disclose to interested parties the calculations performed for these preliminary results within five days of the date of publication of this notice in accordance with 19 CFR 351.224(b). Pursuant to 19 CFR 351.309(c), interested parties may submit case briefs no later than 30 days after the date of publication of this notice. Rebuttal briefs, limited to issues raised in the case briefs, may be filed no later than seven days after the date for filing case briefs.⁹ Commerce modified certain of its requirements for servicing documents containing business proprietary information until further notice.¹⁰ Parties who submit case briefs or rebuttal briefs in this proceeding are encouraged to submit with each argument: (1) A statement of the issue; (2) a brief summary of the argument; and (3) a table of authorities.¹¹ Note that Commerce has temporarily modified certain portions of its requirements for serving documents containing business proprietary information, until further notice.¹²

⁹ See 19 CFR 351.309(d).

¹⁰ See Temporary Rule Modifying AD/CVD Service Requirements Due to COVID-19; Extension Effective Period, 85 FR 41363 (July 10, 2020) (Temporary Rule).

¹¹ See 19 CFR 351.309(c) and (d); see also 19 CFR 351.303 (for general filing requirements).

¹² See Temporary Rule.

Pursuant to 19 CFR 351.310(c), interested parties who wish to request a hearing, limited to issues raised in the case and rebuttal briefs, must submit a written request to the Assistant Secretary for Enforcement and Compliance, U.S. Department of Commerce, filed electronically via ACCESS within 30 days of the date of publication of this notice. Requests should contain: (1) The party's name, address, and telephone number; (2) the number of participants; and (3) a list of the issues to be discussed. If a request for a hearing is made, Commerce intends to hold the hearing at a time and date to be determined. Parties should confirm by telephone the date, time, and location of the hearing two days before the scheduled date. An electronically-filed hearing request must be received successfully in its entirety by ACCESS by 5:00 p.m. Eastern Time on the established deadline.

Commerce intends to issue the final results of this administrative review, including the results of its analysis of issues raised in the case briefs, no later than 120 days after the date of publication of this notice, pursuant to section 751(a)(3)(A) of the Act, unless otherwise extended.

Assessment Rates

Upon issuance of the final results of this administrative review, Commerce shall determine, and U.S. Customs and Border Protection (CBP) shall assess, antidumping duties on all appropriate entries covered by this review.¹³ If a respondent's weighted-average dumping margin is not zero or de minimis (i.e., less than 0.5 percent) in the final results of this review, we will calculate importer-specific ad valorem antidumping duty assessment rates based on the ratio of the total amount of dumping calculated for the importer's examined sales to the total entered value of those same sales in accordance with 19 CFR 351.212(b)(1). We intend to instruct CBP to assess antidumping duties on all appropriate entries covered by this review when the importer-specific assessment rate calculated in the final results of this review is not zero or de minimis. Where an importer-specific assessment rate is zero or de minimis in the final results of this review, we intend to instruct CBP to liquidate the appropriate entries without regard to antidumping duties in accordance with 19 CFR 351.106(c)(2). If Commerce calculates margins above de minimis in the final results of this review, we intend to instruct CBP to take into account the “provisional measures deposit cap,” in accordance with 19 CFR 351.212(d). The final results of this review shall be the basis for the assessment of antidumping duties on entries of merchandise covered by this review and for future deposits of estimated duties, where applicable.¹⁴

¹³ See 19 CFR 351.212(b)(1).

¹⁴ See section 751(a)(2)(C) of the Act.

In accordance with Commerce's “automatic assessment” practice, for entries of subject merchandise during the POR produced by Maharaja or Mangal for which these companies did not know that the merchandise was destined for the United States, we will instruct CBP to liquidate those entries at the all-others rate if there is no rate for the intermediate company(ies) involved in the transaction.¹⁵ For the companies which were not selected for individual review, we will assign an assessment rate based on the review-specific average rate, calculated as noted in the “Preliminary Results of Review” section above.

¹⁵ For a full description of this practice, see Antidumping and Countervailing Duty Proceedings: Assessment of Antidumping Duties, 68 FR 23954 (May 6, 2003).

We intend to issue instructions to CBP no earlier than 35 days after the publication date of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of this administrative review for all shipments of the subject merchandise entered, or withdrawn from warehouse, for consumption on or after the date of publication, as provided by section 751(a)(2)(C) of the Act: (1) The cash deposit rate for the companies listed in the final results of this review will be equal to the weighted-average dumping margin established in the final results of this administrative review; (2) for merchandise exported by producers or exporters not covered in this review but covered in a prior segment of the proceeding, the cash deposit rate will continue to be the company-specific rate published for the most recently-completed segment of this proceeding in which they were reviewed; (3) if the exporter is not a firm covered in this review, or the original investigation but the producer is, then the cash deposit rate will be the rate established for the most recently completed segment of this proceeding for the producer of the merchandise; (4) the cash deposit rate for all other producers or exporters will continue to be 0.00 percent, the all-others rate established in the less-than-fair-value investigation, adjusted for the export-subsidy rate in the companion countervailing duty investigation.¹⁶ The cash deposit requirements, when imposed, shall remain in effect until further notice.

¹⁶ See Order, 85 FR at 19926.

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing these results in accordance with sections 751(a)(1) and 777(i)(1) of the Act and 19 CFR 351.221(b)(4).

Dated: April 28, 2022.
Lisa W. Wang,
Assistant Secretary for Enforcement and Compliance.

Appendix I

List of Topics Discussed in the Preliminary Decision Memorandum

I. Summary

II. Background

III. Scope of the Order

IV. Rates for Non-Examined Companies

V. Affiliation

VI. Discussion of the Methodology

VII. Currency Conversion

VIII. Recommendation

Appendix II

List of Companies Not Individually Examined

A H Enterprises

A S International

Aadi Shree Fastener Industries

Aanjaney Micro Engy Pvt., Ltd.

Aaran 1 Engineering Pvt., Ltd.

Aask Precision Engineers

Abhi Metals

Accumax Lab Devices Pvt., Ltd.

Acmi Industries

Adhi Automation (India) Pvt., Ltd.

Adma Auto Components Pvt., Ltd.

Adma Fabrications (P) Ltd.

Aesthetic Living Merchants Pvt., Ltd.

Agarwal Fastners Pvt., Ltd.

Ajay Electric And Metal Industries

Akg India Private Ltd.

Ambana Exp.

Amtek Auto Ltd.

Ap Trading

Apa Engineering Pvt., Ltd.

Arcotherm Pvt., Ltd.

Arohi International

Aruna Alloy Steels Pvt., Ltd.

Ashish International

Asma International

Asp Pvt., Ltd.

August Industries

Aura Industries Equipement & Project Pvt. Ltd.

Avtar Exp.

Babu Exp.

Bajaj Auto Ltd.

Balmer Lawrie & Co., Ltd.

Bansal Wire Industries Ltd.

Bee Dee Cycle Industries

Belgaum Ferrocast India Pvt., Ltd.

Beri Udyog Pvt., Ltd.

Best Quality Fastners

Bhansali Inc.

Bhuj Polymers Pvt., Ltd.

C Tech Engineers Pvt. Ltd.

Caliber Enterprises

Canco Fasteners

Caparo Engineering India Pvt., Ltd.

Capital Bolts And Hardwares

Case New Holland Construction Equipment(I) Pvt. Ltd.

Century Distribution System Inc.

Challenger Sweepers Private Ltd.

Chandra Mats Pvt., Ltd.

Charu Enterprises

Chhabra Forgings

Chirag International

Clasquin India Pvt., Ltd.

Cnh Industries (India) Pvt., Ltd.

Collection Exp.

Concept Fasteners

Conex Metals

Continental Hardware Mart

Cosmo International

Cummins India Ltd.

Cummins India Ltd. Pdc Mfg Unit

Damco India Pvt., Ltd.

Danesh Industries

Danta Exim

Dauji Engineering Ltd.

Dcw Ltd.

Deepak Brass Industries

Deepak Fasteners Ltd.

Deneb

Dhara Foods Pvt., Ltd.

Dmw Cnc Solutions India Pvt., Ltd.

Dst Industries

Durable Metalcraft

Eagle Line Fixings&Fixtures (P) Ltd.

Eastman Industries Ltd.

Echjay Forgings Pvt. L

Edicon Pneumatic Tool Co. Pvt. Ltd.

Efficient Automotives Pvt., Ltd.

Eicher Motors Ltd.

Elite Green Pvt., Ltd.

Ellias International

Emmforce Inc.

Emu Lines Pvt., Ltd.

Ess Enn Auto Cnc .P. Ltd.

Everest Engineering Equipment Pvt., Ltd.

Everest Industries Ltd.

Fence Fixings

Fine Products (India)

Fine Thread Form Industries

Fit Right Nuts And Bolts Pvt., Ltd.

Flowserve India Controls Pvt., Ltd.

Ford India Pvt., Ltd.

Ganesh Brass Industries

Ganga Technocast

Ganges Internationale

Ganpati Fastners Pvt., Ltd.

Gayatri Metal Products

Ghanshyamlal Co.

Global Engineering Exports

Gloster Jute Mills Limited

Goel & Goel International

Good Ways Corporation

Goodgood Manufacturers

GPDA Fasteners

Gripwel Fasteners

Gvn Fuels Ltd.

Hamidi Exp.

Haria Trading Co.

Him Overseas

Hind Metal & Industries Pvt., Ltd.

Hindostan Expo

Hiten Fastners Pvt., Ltd.

Hobb International Pvt., Ltd.

Humboldt Wedag India P Ltd.

Husco Hydraulics Pvt., Ltd.

Idea Fastners Pvt., Ltd.

Imco Alloys Pvt., Ltd.

Inder Industries

India Yamaha Motor Pvt., Ltd.

Indo Schottle Auto Parts Pvt., Ltd.

Indra Engineering

Induspro Auto Engineers Pvt., Ltd.

Industrias Gol S.A.U.

Ingersoll Rand India Ltd.

Intex Home Solutions

Intl Tractors Ltd.

Irm Offshore & Marine Engineer Pvt., Ltd.

Ispt India Pvt., Ltd.

J.K. Fenner (India) Ltd.

Jain Grani Marmo Pvt., Ltd.

Jayson International

Jhv Engicon Pvt., Ltd.

Jindal Fasteners

K V Tech India LLP

Kalpana Brass Industries

Kanika Exp.

Kanika Overseas Inc.

Kapil Enterprises

Kapson India

Kapurthala Industrial Corporation

Karamtara Engineering Pvt., Ltd.

Karna International

KBV Industries India Pvt., Ltd.

KEC International Ltd.

Keith Ceramic India Private Ltd.

Kewaunee Labway India Pvt., Ltd.

King Exports

Kmp Freight

Knk Enterprises

Knl Drive Line Parts Pvt., Ltd.

Kohler India Corp. Pvt Ltd.

Kova Fasteners Pvt., Ltd.

Krisam Automation Pvt., Ltd.

KSP Engineering Co.

Kumar Auto Parts Pvt., Ltd.

Kundan Industries Ltd.

Lasercut Metal Technology Private Ltd.

LCL Logistix (I) Pvt., Ltd.

Lg Balakrishnan & Bros Ltd.

Live Rock Bangalore Pvt., Ltd.

M K Fastners

M.D. Industries

M.K.Fasteners

M.M. Intl

Mack Machine Products Pvt., Ltd.

Maini Precision Products Ltd.

Mangalam Alloys Ltd.

Mansons International Pvt., Ltd.

Mark Industries

Marudhar Enterprises

Maxop Engineering Co.

Maya Enterprises

MB Metallic Bellows Pvt., Ltd.

Mechasoft

Meeras International

Mega Engineers

Metaloft Industries Private Ltd.

Metrix Autocomp Pvt., Ltd.

Mohindra Fasteners Ltd.

Movex Cargo Pvt., Ltd.

MSS India Pvt., Ltd. (100%Eou)

Mukund Overseas

Multimech Engineers

Multitech Products Pvt., Ltd.

N. A. Roto Machines & Moulds India

Navketan Engineering Works

Neon Alloys

Nexo Industries Ltd.

Nipha Enterprises LLP

Niranjan Engineering Works

Nishant Steel Industries

Nivic Technocast

Norquest Brands Private Ltd.

Northpole Industries

Ommi Forge Pvt., Ltd.

Omnitech Engineering

Onkar International

Oriental Exp. Corporation

Oriental Rubber Industries

P N International

P R Rolling Mills Pvt., Ltd.

Paani Precision Products Llp

Paloma Turning Co. Pvt., Ltd.

Panesar Engineers

Pankaj Exp.

Paramount Agriparts

Parshva India

Parul Exp.

Perfect Forgings

Perfect Industries (India)

Pheon Auto Tech Pvt., Ltd.

Piping & Energy Products (P) Ltd

Pooja Forge Ltd.

Pooja Precision Screws Pvt., Ltd.

Pr Professional Services

Precision Engineering Industries

Precision Products Marketing Pvt., Ltd.

Prime Steel Products

Protech International

Psl Pipe & Fittings Co.

R F India

R K Fasteners (India)

R. Kay Exp.

Raajratna Metal Industries Ltd.

Raajratna Ventures Ltd.

Rachna Fastners

Randack Fasteners India Pvt., Ltd.

Rar Exim Pvt., Ltd.

Ravi Engineers

Rbm International

Resilent Autocomp Pvt., Ltd.

Ridvan Fasteners India Pvt., Ltd.

Right Tight Fastners Pvt., Ltd.

Rishi International

Rohlig India Pvt., Ltd.

Roots Multiclean Ltd.

Rotzler Services Private Ltd.

S K Brass Works

Sakthi Forgings

Sameer Exports International

Sandip Brass Industries

Sanghvi Metal Coporation

Sarveshwari Engineers

Satyam Engineering Works

Schenker India Pvt., Ltd.

Scorpio Precisions

Shalaka Shafts Private Ltd.

Shiv Om Brass Industries

Shree Exp.

Shree Luxmi Fasteners

Shree Raj Industries

Shreeraj Industries

Shri L.G. Hindustan Handicrafts

Shri Ram Castings

Shri Shirdi Sai Baba Moorti Art

Shrijee Process Engineering

Shrutee Exp. Pvt., Ltd.

Shyam Enterprises

Sigmaflow Production Solutions Priv

Simplex Engineering Co.

Singhania International

Sivaramakrishna Forgings P. Ltd.

Skf India Ltd.

Sks Fasteners Ltd.

Sonesta Corporation

Sri Ranganathar Industries Private Limited

Stelco Ltd.

Sterling Tools Ltd.

Strut Support Systems

Sundram Fasteners Ltd.

Sunil Chirag & Co.

Sunil Industries, Ltd.

Supreme Overseas Exports India Pvt. Ltd.

Surelock Plastics Pvt., Ltd.

Suzlon Energy Ltd.

Suzy Indusries Ltd.

Sv Engineerings

Swadesh Engineering Industries

Swamiji Transmission Pvt., Ltd.

Swati Enterprise

Techbolt Industries Private Ltd.

Technical Products

Technocraft Industries (India) Ltd.

Tega Industries Ltd.

Teryair Equipment Pvt., Ltd.

Texas Technology

Tijiya Engineering Pvt., Ltd.

Tijiya Exp. Pvt., Ltd.

Torqbolt Inc.

Total Transport Systems Pvt., Ltd.

Trans Tool Pvt., Ltd.

Tristar International

Triton Foodworks Pvt., Ltd.

Trueform Exp. Pvt.L

Turbo Tools Pvt., Ltd.

Teyamaha Motor Asia Pte., Ltd.

Umaa Engineers

Unexo Life Sciences Private Ltd.

Universal Precision Screws

Unlimited Inc.

UT Worldwide (India) Pvt., Ltd.

V.K Fasteners Pvt., Ltd.

V.R.Logistics Pvt., Ltd.

V.S.Industries

Vatsalya Metal Industries

Vega Industries

Velvin Paper Products

Venu Engineering Services (P) Ltd.

Versatile Instruments & Controls

Vestas Wind Technology India Private Ltd.

Vibracoustic Noida Pvt., Ltd.

Victaulic Piping Products India Pvt., Ltd.

Vidhi Industries

Vidushi Wires Pvt., Ltd.

Vijay Engineering Works

Viraj Profiles Ltd.

Vollan Shipping Pvt., Ltd.

Vph International

Waveerk Enterprises

White Mountain Fixings India

Wintage Engineers & Consultants

Wire Rings

Xcel Exports

Yerik International

Yogendra International

Youyun Logistics & Technology Pvt. Ltd.

Zenith Precision Pvt., Ltd.

[FR Doc. 2022-09801 Filed 5-5-22; 8:45 am]

BILLING CODE 3510-DS-P